DEPARTMENT OF AGRICULTURE

Forest Service

Idaho and Southwestern Montana (Beaverhead-Deerlodge, Boise, Caribou-Targhee, Salmon-Challis, and Sawtooth National Forests and Curlew National Grassland); Nevada (Humboldt-Toiyabe National Forest); Utah (Ashley, Dixie, Fishlake, Manti-La Sal, and Uinta-Wasatch-Cache National Forests); Wyoming (Bridger-Teton National Forest); and Wyoming/Colorado (Medicine Bow-Routt National Forest and Thunder Basin National Grassland); Amendments to Land Management Plans for Greater Sage-Grouse Conservation

AGENCY: Forest Service, USDA.

ACTION: Notice of intent to prepare an environmental impact statement.

SUMMARY: This notice initiates the scoping process to solicit public comments on greater sage-grouse land management issues that could warrant land management plan amendments. Land management plans for National Forests in Idaho, Montana, Nevada, Utah, Colorado and Wyoming were amended in September 2015 to incorporate conservation measures to support the continued existence of the greater sage-grouse. New issues have been identified since 2015. The Forest Service intends to work cooperatively with the Bureau of Land Management (BLM) to address these issues and others to be identified through this scoping process. This notice also identifies the planning rule provisions likely to be directly related, and so applicable, to plan amendments that may be proposed.

DATES: Comments concerning the scope of the analysis must be received by January 5, 2018.

ADDRESSES: Send written comments to Sage-grouse Amendment Comment, USDA Forest Service Intermountain Region, Federal Building, 324 25th Street, Ogden, UT 84401. Comments may also be sent via email to comments-intermtn-regional-office@fs.fed.us, or via facsimile to 801-625-5277.

FOR FURTHER INFORMATION CONTACT: John Shivik at 801-625-5667 or email johnashivik@fs.fed.us.

Individuals who use telecommunication devices for the deaf (TDD) may call the Federal Information Relay Service (FIRS) at 1-800-877-8339 between 8 a.m. and 8 p.m., Eastern Time, Monday through Friday.

SUPPLEMENTARY INFORMATION: On March 31, 2017, the United States District Court for the District of Nevada held that the Forest Service violated the National Environmental Policy Act (NEPA) by failing to provide the public with enough information to meaningfully participate in the Environmental Impact Statement (EIS) process in the Nevada and Northeastern California Greater Sage-grouse Land Management Plan Amendment in Nevada. Specifically, the agencies designated Sagebrush Focal Areas (SFAs) between the draft and final Environmental Impact Statements. The court remanded the Records of Decision to the agencies to prepare a Supplemental Environmental Impact Statement. Western Exploration, LLC v. U.S. Dept. of Interior, 250 F.Supp.3d 718, 750-751. Similar claims were raised in other, pending lawsuits.

In order to comply with the court and to address issues identified by the BLM, the states, and various interested parties, the Forest Service is considering the possibility of amending some, all, or none of the Forest Service land management plans that were amended in 2015 regarding greater sage-grouse conservation in the states of Colorado, Idaho, Nevada, Wyoming, Utah and Montana (“2015 Sage-Grouse Plans”). The Forest Service seeks comment on certain parts of the 2015 Sage-Grouse Plans that have been preliminarily identified, but also seeks input on other related issues. The specific topics already identified for consideration include: SFA designations; mitigation standards; disturbance and density caps; modification of habitat boundaries to reflect new information; variance of management approaches within Priority Habitat Management Areas and General Habitat Management Areas; causal factors; adaptive management; the land use exemptions process; and grazing guidelines.

The Forest Service coordinated with the Sage Grouse Task Force and the BLM to identify the preliminary issues with current plan direction. The Forest Service intends to continue to work as a cooperating agency with the BLM in their planning process. This notice and the potential planning effort do not preclude the Forest Service from addressing issues through other means, including policy, training, or administrative changes, nor does it commit the Forest Service to amending some, all, or none of the greater sage-grouse plans.

If the Forest Service amends land management plans, we hereby give notice that substantive requirements of the 2012 Planning Rule (36 CFR 219) likely to be directly related, and therefore applicable, to the amendments are in sections 219.8(b) (social and economic sustainability), 219.9 (diversity of plant and animal communities), and 219.10(a)(1) (integrated resource management).

In addition to requesting comment on the topics identified in this notice, the Forest Service requests input on whether, if it undertakes plan amendments, the planning effort should occur on a regional, state-by-state, or forest-by-forest basis. In particular, the Forest Service looks forward to receiving the comments of the governors of each affected State.

Lead and Cooperating Agencies

If any further analysis and associated decision documents are completed, the Forest Service will be the lead agency, but will invite the BLM to act as a cooperating agency. The Forest Service will consult with Indian tribes on a government-to-government basis in accordance with Executive Order 13175 and other policies. Federal, State, and local agencies, along with tribes and other stakeholders that may be interested in or affected by the proposed action, are invited to participate in the scoping process and, if eligible, may request or be asked by the Forest Service to participate in the development of the environmental analysis as a cooperating agency.

The public is encouraged to help identify any issues, management questions, or concerns that should be addressed in plan amendment(s) or policy or administrative action. The Forest Service will work collaboratively with interested parties to identify the management direction that is best suited to local, regional, and national needs and concerns. The Forest Service will use an interdisciplinary approach as it considers the variety of resource issues and concerns.

Dated: November 13, 2017.
Jeanne M. Higgins,
Acting Associate Deputy Chief, National Forest System.

[FR Doc. 2017-25112 Filed 11-20-17; 8:45 am]

BILLING CODE 3411-15-P